DEPARTMENT OF LABOR

Employment and Training Administration

[TA-W-60,936]

Duro Textiles, LLC, Fall River, MA; Notice of Termination of Investigation

Pursuant to Section 221 of the Trade Act of 1974, as amended, an investigation was initiated on February 12, 2007 in response to a petition filed by a company official on behalf of workers at Duro Textiles, LLC, Fall River, Massachusetts. The workers at the subject facility produce dyed, coated, and finished fabric.

The petitioner has requested that the petition be withdrawn. Consequently, the investigation has been terminated.

Signed in Washington, DC, this 26th day of February 2007.
Richard Church,
Certifying Officer, Division of Trade Adjustment Assistance.

[FR Doc. E7-4065 Filed 3-7-07; 8:45 am]

BILLING CODE 4510-FN-P